DEPARTMENT OF THE INTERIOR

National Park Service

[NPS-WASO-NAGPRA-16117; PPWOCRADN0-PCU00RP14.R50000]

Notice of Inventory Completion: U.S. Department of the Interior, National Park Service, Montezuma Castle National Monument, Camp Verde, AZ

AGENCY: National Park Service, Interior.

ACTION: Notice.

SUMMARY: The U.S. Department of the Interior, National Park Service, Montezuma Castle National Monument has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to Montezuma Castle National Monument. If no additional requestors come forward, transfer of control of the human remains to the Indian tribes or Native Hawaiian organizations stated in this notice may proceed.

DATES: Representatives of any Indian tribe or Native Hawaiian organization not identified in this notice that wish to request transfer of control of these human remains should submit a written request with information in support of the request to Montezuma Castle National Monument at the address in this notice by August 27, 2014.

ADDRESSES: Dorothy FireCloud, Superintendent, Montezuma Castle National Monument, P.O. Box 219, Camp Verde, AZ 86322, telephone (928) 567-5276, email dorothy_firecloud@nps.gov.

SUPPLEMENTARY INFORMATION: Notice is here given in accordance with the Native American Graves Protection and Repatriation Act (NAGPRA), 25 U.S.C. 3003, of the completion of an inventory of human remains under the control of Montezuma Castle National Monument, Camp Verde, AZ. The human remains were removed from Yavapai County, AZ.

This notice is published as part of the National Park Service's administrative responsibilities under NAGPRA, 25 U.S.C. 3003(d)(3) and 43 CFR 10.11(d). The determinations in this notice are the sole responsibility of the Superintendent, Montezuma Castle National Monument.

Consultation

A detailed assessment of the human remains was made by Montezuma Castle National Monument professional staff in consultation with representatives of the Ak Chin Indian Community of the Maricopa (Ak Chin) Indian Reservation, Arizona; Apache Tribe of Oklahoma; Fort McDowell Yavapai Nation, Arizona; Fort Sill Apache Tribe of Oklahoma; Gila River Indian Community of the Gila River Indian Reservation, Arizona; Hopi Tribe of Arizona; Hualapai Indian Tribe of the Hualapai Indian Reservation, Arizona; Jicarilla Apache Nation, New Mexico; Mescalero Apache Tribe of the Mescalero Reservation, New Mexico; Salt River Pima-Maricopa Indian Community of the Salt River Reservation, Arizona; San Carlos Apache Tribe of the San Carlos Reservation, Arizona; Tohono O'odham Nation of Arizona; Tonto Apache Tribe of Arizona; White Mountain Apache Tribe of the Fort Apache Reservation, Arizona; Yavapai-Apache Nation of the Camp Verde Indian Reservation, Arizona; Yavapai-Prescott Indian Tribe (previously listed as the Yavapai-Prescott Tribe of the Yavapai Reservation, Arizona); and Zuni Tribe of the Zuni Reservation, New Mexico (hereafter referred to as “The Tribes”).

History and Description of the Remains

At unknown dates, human remains representing, at minimum, five individuals were removed from unknown locations in Yavapai County, AZ. The human remains were found in Montezuma Castle National Monument collections and so were likely removed from sites within the boundaries of Montezuma Castle National Monument. No known individuals were identified. No associated funerary objects are present.

At unknown dates, human remains representing, at minimum, three individuals were removed from unknown sites in the Verde Valley in Yavapai County, AZ. The remains were given to Montezuma Castle National Monument by multiple donors. It is unclear when each set of remains was donated. No known individuals were identified. No associated funerary objects are present.

Prior to 1933, human remains representing, at minimum, one individual were removed from Oak Creek Highway in Yavapai County, AZ during roadwork by an Arizona State Highway Department road grader. The remains were gifted to Montezuma Castle National Monument at an unknown date. No known individuals were identified. No associated funerary objects are present.

Prior to 1942, human remains representing, at minimum, two individuals were removed from Osborn Ranch Ruin in Yavapai County, AZ. The remains were collected from disturbed burials in the trash dump of the site. They were donated to Montezuma Castle National Monument at an unknown date. No known individuals were identified. No associated funerary objects are present.

Determinations Made by Montezuma Castle National Monument

Officials of Montezuma Castle National Monument have determined that:

• Pursuant to 25 U.S.C. 3001(9), the human remains described in this notice are Native American based on osteological analysis and the known archeological context of Montezuma Castle National Monument.

• Pursuant to 25 U.S.C. 3001(9), the human remains described in this notice represent the physical remains of 11 individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Fort McDowell Yavapai Nation, Arizona; Hualapai Indian Tribe of the Hualapai Indian Reservation, Arizona; Tonto Apache Tribe of Arizona; Yavapai-Apache Nation of the Camp Verde Indian Reservation, Arizona; and Yavapai-Prescott Indian Tribe (previously listed as the Yavapai-Prescott Tribe of the Yavapai Reservation, Arizona).

• Treaties, Acts of Congress, or Executive Orders, indicate that the land from which the Native American human remains were removed is the aboriginal land of the Apache Tribe of Oklahoma; Fort Sill Apache Tribe of Oklahoma; Hualapai Indian Tribe of the Hualapai Indian Reservation, Arizona; Jicarilla Apache Nation, New Mexico; Mescalero Apache Tribe of the Mescalero Reservation, New Mexico; San Carlos Apache Tribe of the San Carlos Reservation, Arizona; Tonto Apache Tribe of Arizona; and White Mountain Apache Tribe of the Fort Apache Reservation, Arizona.

• Other credible lines of evidence, including relevant and authoritative governmental determinations and information gathered during government-to-government consultation from subject matter experts, indicate that the land from which the Native American human remains and associated funerary objects were removed is the aboriginal land of the Ak Chin Indian Community of the Maricopa (Ak Chin) Indian Reservation, Arizona; Fort McDowell Yavapai Nation, Arizona; Gila River Indian Community of the Gila River Indian Reservation, Arizona; Hopi Tribe of Arizona; Salt River Pima-Maricopa Indian Community of the Salt River Reservation, Arizona; San Carlos Apache Tribe of the San Carlos Reservation, Arizona; Tohono O'odham Nation of Arizona; Tonto Apache Tribe of Arizona; White Mountain Apache Tribe of the Fort Apache Reservation, Arizona; Yavapai-Apache Nation of the Camp Verde Indian Reservation, Arizona; Yavapai-Prescott Indian Tribe (previously listed as the Yavapai-Prescott Tribe of the Yavapai Reservation, Arizona); and Zuni Tribe of the Zuni Reservation, New Mexico.

• Pursuant to 43 CFR 10.11(c)(1), the disposition of the human remains may be to The Tribes.

Additional Requestors and Disposition

Representatives of any Indian tribe or Native Hawaiian organization not identified in this notice that wish to request transfer of control of these human remains should submit a written request with information in support of the request to Dorothy FireCloud, Superintendent, Montezuma Castle National Monument, P.O. Box 219, Camp Verde, AZ 86322, telephone (928) 567-5276, email dorothy_firecloud@nps.gov, by August 27, 2014. After that date, if no additional requestors have come forward, transfer of control of the human remains to The Tribes may proceed.

Montezuma Castle National Monument is responsible for notifying The Tribes that this notice has been published.

Dated: June 26, 2014.
David Tarler,
Acting Manager, National NAGPRA Program.

[FR Doc. 2014-17743 Filed 7-25-14; 8:45 am]

BILLING CODE 4312-50-P